DEPARTMENT OF ENERGY

Federal Energy Regulatory Commission

[Docket No. CP06-115-000]

Texas Eastern Transmission, LP; Notice of Intent To Prepare an Environmental Assessment for the Proposed Texas Eastern Incremental Market Expansion II Project and Request for Comments on Environmental Issues

May 26, 2006.

The staff of the Federal Energy Regulatory Commission (FERC or Commission) will prepare an environmental assessment (EA) that will discuss the environmental impacts of the Texas Eastern Incremental Market Expansion (TIME) II Project involving construction, replacement, and operation of facilities by Texas Eastern Transmission, LP (Texas Eastern) in Pickaway and Monroe Counties, Ohio and Somerset, Bedford, Franklin, Bucks, Fayette, and Adams Counties, Pennsylvania. The TIME II Project would provide additional natural gas pipeline capacity to the New Jersey market area, alleviating the constraints currently experienced as a result of increasing market demand. The TIME II Project would provide up to 150,000 dekatherms per day (dth/d) of transportation capacity.

This notice announces the opening of the scoping period that will be used to gather environmental input from the public and interested agencies on the project. Please note that the scoping period will close on June 30, 2006.

This notice is being sent to potentially affected landowners; Federal, state, and local government agencies; elected officials; environmental and public interest groups; Native American Tribes, other interested parties; local libraries and newspapers. State and local government representatives are asked to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Internet Web site (http://www.ferc.gov). This fact sheet addresses a number of typically asked questions, including the use of eminent domain and how to participate in the Commission's proceedings.

Summary of the Proposed Project ¹

In 2007, Texas Eastern proposes to:

¹ Texas Eastern's application was filed with the Commission under section 7 of the Natural Gas Act and part 157 of the Commission's regulations.

• Remove about 6.4 miles of its existing 24-inch-diameter Line 1 pipeline and replace it, within the same trench, with a 36-inch-diameter pipeline in Somerset and Bedford Counties, Pennsylvania (Uniontown Discharge);

• Remove about 4.9 miles of its existing 24-inch-diameter Line 1 pipeline and replace it, within the same trench, with a 36-inch-diameter pipeline in Franklin County, Pennsylvania (Bedford Discharge);

• Remove about 10.3 miles of its existing 20-inch-diameter Line 2 pipeline and replace it, within the same trench, with a 36-inch-diameter pipeline in Bucks County, Pennsylvania (Eagle Discharge);

• Construct the new Heidlersburg Compressor Station, which would include a 16,000 horsepower (hp) electric motor/centrifugal compressor and related facilities near Heidlersburg in Adams County, Pennsylvania; and

• Remove, relocate, or install appurtenant facilities.

In 2008, Texas Eastern proposes to:

• Remove about 6.3 miles of its existing 24-inch-diameter Line 1 pipeline and replace it, within the same trench, with a 36-inch-diameter pipeline in Pickaway County, Ohio (Five Points Discharge);

• Construct about 4.0 miles of 36-inch-diameter pipeline loop ² in Monroe County, Ohio (Berne Discharge);

² A loop is a segment of pipeline that is installed adjacent to an existing pipeline and connected to it on both ends. The loop allows more gas to be moved through the pipeline system.

• Install a 16,000 hp electric motor/centrifugal compressor unit at its existing Uniontown Compressor Station in Fayette County, Pennsylvania; and

• Install appurtenant facilities.

The general location of Texas Eastern's proposed facilities is shown on the map attached as Appendix 1.³

³ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of Texas Eastern's proposed pipeline facilities would require about 571.6 acres of land, including construction rights-of-way for the loop and replacements, additional temporary workspaces, access roads, staging areas, and pipeyards/wareyards. Following construction, about 319.9 acres would be maintained as permanent rights-of-way. The remaining 251.7 acres would be restored and allowed to revert to its former use.

Construction at the existing Uniontown Compressor Station would require disturbance of about 0.5 acre within the existing compressor station site and would not require the clearing of additional land.

Construction of the Heidlersburg Compressor Station would require about 6.3 acres of land. Following construction, about 6.2 acres would be maintained as a new aboveground facility site.

The EA Process

The National Environmental Policy Act (NEPA) requires the Commission to take into account the environmental impacts that could result from an action whenever it considers the issuance of a Certificate of Public Convenience and Necessity. NEPA also requires us ⁴ to discover and address concerns the public may have about proposals. This process is referred to as “scoping”. The main goal of the scoping process is to focus the analysis in the EA on the important environmental issues. By this Notice of Intent, the Commission staff requests public comments on the scope of the issues to address in the EA. All comments received are considered during the preparation of the EA. By this notice, we are also asking Federal, state, and local agencies with jurisdiction and/or special expertise with respect to environmental issues to formally cooperate with us in the preparation of the EA. Agencies that would like to request cooperating status should follow the instructions for filing comments below.

⁴ ”We”, “us”, and “our”, refer to the environmental staff of the Office of Energy Projects (OEP).

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

Currently Identified Environmental Issues

In the EA, we will discuss impacts that could occur as a result of the construction and operation of the project. We will also evaluate possible alternatives to the proposed project or portions of the project.

We have already identified several issues that we think deserve attention based on a preliminary review of the proposed facilities, environmental information provided by Texas Eastern, and comments gathered from concerned citizens at Texas Eastern's open houses. This preliminary list of issues may be changed based on your comments and our analysis.

• Potential noise levels due to the operation of the compressor stations;

• Safety concerns;

• Eight federally-listed threatened and endangered species may potentially occur in the project areas;

• 56 perennial waterbodies would be crossed; and

• About 6.2 acres of agricultural land would be converted to industrial use for the Heidlersburg Compressor Station.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 1.

• Reference Docket No. CP06-115-000.

• Mail your comments so that they will be received in Washington, DC on or before June 30, 2006.

Please note that the Commission strongly encourages electronic filing of any comments or interventions or protests to this proceeding. See 18 CFR 385.2001(a)(1)(iii) and the instructions on the Commission's Web site at http://www.ferc.gov under the “e-Filing” link and the link to the User's Guide. Before you can file comments you will need to create an account which can be created online.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-8595 Filed 6-1-06; 8:45 am]

BILLING CODE 6717-01-P